NATIONAL AERONAUTICS AND SPACE ADMINISTRATION

[Notice 05-130]

NASA Advisory Council, Aeronautics Research Advisory Committee; Meeting

AGENCY: National Aeronautics and Space Administration.

ACTION: Notice of meeting.

SUMMARY: In accordance with the Federal Advisory Committee Act, Public Law 92-463, as amended, the National Aeronautics and Space Administration announces a forthcoming meeting of the NASA Aeronautics Research Advisory Committee.

DATES: Tuesday, September 20, 2005, 9 a.m. to 5 p.m.; and Wednesday, September 21, 2005, 9 a.m. to 5 p.m.

ADDRESSES: National Aeronautics and Space Administration, 300 E Street, SW., Room 6H65, Washington, DC 20546 and Holiday Inn Rosslyn Westpark Hotel, 1900 North Fort Myer Drive, Arlington, Virginia 22209.

FOR FURTHER INFORMATION CONTACT: Ms. Mary-Ellen McGrath, Office of Aeronautics Research Mission Directorate, National Aeronautics and Space Administration, Washington, DC 20546 (202/358-4729).

SUPPLEMENTARY INFORMATION: The meeting will be open to the public up to the seating capacity of the room. The agenda for the meeting is as follows: Tuesday, September 20—9 a.m. to 5 p.m., National Aeronautics and Space Administration, 300 E Street, SW., Room 6H65, Washington, DC 20546.

—Opening Remarks

—Assessment of Aeronautics Technology Programs

—Committee Reports

—Discussion on Issues and Activities that Impact NASA and FAA

—National Aeronautics Policy

Wednesday, September 21—9 a.m. to 5 p.m., Holiday Inn Rosslyn Westpark Hotel, 1900 North Fort Myer Drive, Arlington, Virginia 22209.

—Opening Remarks

—Initial Reviews of NASA and FAA Research

—Joint Planning and Development Office Briefings

—Closing Comments

Individuals attending the September 20, 2005, meeting at NASA Headquarters will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Mary-Ellen McGrath via e-mail at mary.E.mcgrath@nasa.gov or by telephone at (202) 358-4729. Persons with disabilities who require assistance should indicate this.

It is imperative that the meeting be held on these dates to accommodate the scheduling priorities of the key participants.

P. Diane Rausch,
Advisory Committee Management Officer, National Aeronautics and Space Administration.

[FR Doc. 05-17118 Filed 8-26-05; 8:45 am]

BILLING CODE 7510-13-P